DEPARTMENT OF TRANSPORTATION

Surface Transportation Board

[Docket No. MCF 21046]

Professional Transportation, Inc.—Asset Acquisition—CUSA ES, LLC and CUSA CSS, LLC

AGENCY: Surface Transportation Board, Department of Transportation.

ACTION: Correction to Notice of Finance Application.

On June 29, 2012, notice of the above finance application was served and published in the Federal Register (77 FR 38884-85). The notice contained an omission in the address paragraph. The second sentence of the address paragraph should read as follows: “In addition, send copies of comments to the parties' representatives: Andrew K. Light, Scopelitis, Garvin, Light, Hanson & Feary, P.C., 10 W. Market Street, Suite 1500, Indianapolis, IN 46204, and Larry C. Tomlin, Krieg DeVault LLP, One Indiana Square, Suite 2800, Indianapolis, IN 46204.” All other information in the notice is correct.

Board decisions and notices are available on our Web site at “WWW.STB.DOT.GOV.”

Decided: July 16, 2012.
By the Board.
Rachel D. Campbell,
Director, Office of Proceedings.
Raina S. White,
Clearance Clerk.

[FR Doc. 2012-17596 Filed 7-19-12; 8:45 am]

BILLING CODE 4915-01-P